ENVIRONMENTAL PROTECTION AGENCY

[OAR-2004-0073; FRL-7833-9]

Agency Information Collection Activities: Submission for OMB Review; Comment Request; Control Technology Determinations for Constructed and Reconstructed Major Sources of Hazardous Air Pollutants (Renewal)

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on October 31, 2004. Under OMB regulations, the Agency may continue to conduct or sponsor the collection of information while this submission is pending at OMB. This ICR describes the nature of the information collection and its estimated burden and cost.

DATES: Additional comments may be submitted on or before December 6, 2004.

ADDRESSES: Submit your comments, referencing docket ID number OAR-2004-0073, to (1) EPA online using EDOCKET (our preferred method), by e-mail to a-and-r-docket@epa.gov, or by mail to: Environmental Protection Agency, EPA Docket Center (EPA/DC), Air and Radiation Docket and Information Center, EPA West, Mail Code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Maria Noell, Office of Air Quality Planning and Standards, Mail Code C339-03, Environmental Protection Agency, Research Triangle Park, NC 27711; telephone number: (919) 541-5607; fax number (919) 541-5509; E-mail address: noell.maria@epa.gov.

SUPPLEMENTARY INFORMATION: EPA has submitted the following ICR to OMB for review and approval according to the procedures prescribed in 5 CFR 1320.12. On May 19, 2004 (69 FR 28885), EPA sought comments on this ICR pursuant to 5 CFR 1320.8(d). EPA received no comments.

EPA has established a public docket for this ICR under Docket ID Number OAR-2004-0073, which is available for public viewing at the Air and Radiation Docket and Information Center, in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is: (202) 566-1742. An electronic version of the public docket is available through EPA Dockets (EDOCKET) at http://www.epa.gov/edocket. Use EDOCKET to submit or to view public comments, to access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Control Technology Determinations for Constructed and Reconstructed Major Sources of Hazardous Air Pollutants (40 CFR part 63, subpart B) (Renewal).

Abstract: Section 112(g)(2)(B) of the Clean Air Act as amended in 1990 requires that maximum achievable control technology (MACT), determined on a case-by-case basis, be met by constructed or reconstructed major sources of hazardous air pollutants. In order to receive a permit to construct or reconstruct a major source, the applicant must conduct the necessary research, perform the appropriate analyses and prepare the permit application with documentation to demonstrate that their project meets all applicable statutory and regulatory requirements. Permitting agencies, either State, local or Federal, review and approve or disapprove the permit application. Specific activities and requirements are listed and described in the Supporting Statement for the ICR.

The information collected in the section 112(g) applications provides (for the purposes of compliance determination) documentation of the selection of a particular control technology for case-by-case MACT. Applications are reviewed by a state or local agency for which authority has been delegated by EPA to make the requisite determinations. In addition, EPA will review some applications as an oversight function.

An agency may not conduct or sponsor, and a person is not required to respond to, a collection of information unless it displays a currently valid OMB control number. The OMB Control Numbers for EPA's regulations are listed in 40 CFR part 9 and 48 CFR chapter 15, and are identified on the form and/or instrument, if applicable.

Burden Statement: The annual public reporting and recordkeeping burden for this collection of information is estimated to average 245 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are those who must submit an application for a permit to construct or reconstruct a major source of hazardous air pollution, permitting agencies who review the permit applications, and EPA staff who review some permitting authority decisions.

Estimated Number of Respondents: 150.

Frequency of Response: On occasion.

Estimated Total Annual Hour Burden: 36,800.

Estimated Total Annual Costs: $2,419,100, which includes $0 annualized capital/startup costs, $3,930 annual O&M costs, and $2,415,170 annual labor costs.

Changes in the Estimates: There is a decrease of 55,410 hours in the total estimated burden currently identified in the OMB Inventory of Approved ICR Burdens. This decrease is due to a reduction in annual burden due to an improved estimate of the number of facilities and a decrease in annual per person training burden.

Dated: October 27, 2004.
Joseph A. Sierra,
Acting Director, Collection Strategies Division.

[FR Doc. 04-24661 Filed 11-3-04; 8:45 am]

BILLING CODE 6560-50-P